DEPARTMENT OF THE INTERIOR

Bureau of Land Management

[AK-024-1610-DO-094L]

Notice of Intent To Prepare a Resource Management Plan and Environmental Impact Statement for BLM-Alaska's Eastern Interior Planning Area

AGENCY: Bureau of Land Management, Interior.

ACTION: Notice of intent.

SUMMARY: The Bureau of Land Management (BLM) Eastern Interior Field Office, Fairbanks, Alaska, intends to prepare a Resource Management Plan (RMP) with an associated Environmental Impact Statement (EIS) for the Eastern Interior Planning Area and by this notice announces the beginning of the public scoping period. Public scoping meetings will be held in Fairbanks, Delta Junction, Tok, Eagle, Chicken, Central, and Anchorage. Additional public scoping meetings may be held at Circle, Chalkyitsik, Fort Yukon, Stevens Village, Beaver, Birch Creek and other locations to be determined at a later date. The RMP will replace the existing Steese National Conservation Area Resource Management Plan, the White Mountains National Recreation Area Resource Management Plan, and the Fortymile Management Framework Plan. The RMP will also make land use decisions on previously unplanned public lands in the Upper Black River subunit.

DATES: The public scoping period will begin with the publication of this notice.

Formal scoping will end on July 1, 2008. The BLM will announce public scoping meetings to identify relevant issues through local news media, newsletters, and the BLM Web site, http://www.blm.gov/ak, at least 15 days prior to the first meeting. We will provide formal opportunities for public participation after release of the Draft RMP/EIS.

ADDRESSES: You may submit comments by any of the following methods:

• E-mail: eirmp_comments@blm.gov.

• Fax: (907) 474-2282.

• Mail: BLM Eastern Interior Field Office, Attention: Jeanie Cole, 1150 University Ave., Fairbanks, AK 99709.

Documents pertinent to this proposal may be examined at the Eastern Interior Field Office, Fairbanks, Alaska.

FOR FURTHER INFORMATION CONTACT: For further information and/or to have your name added to our mailing list, contact Jeanie Cole, telephone (907) 474-2340; e-mail jeanie_cole@blm.gov.

SUPPLEMENTARY INFORMATION: This document provides notice that the BLM Eastern Interior Field Office, Fairbanks, Alaska, intends to prepare an RMP with an associated EIS for the Eastern Interior Planning Area and announces public scoping meetings.

The planning area is located in eastern Alaska and is bounded by the Brooks Range on the north, the Dalton and Elliott Highways on the west, the BLM Fairbanks/Anchorage District boundary on the south, and the U.S.-Canada border on the east. The planning area includes four subunits: the Steese National Conservation Area (SNCA), the White Mountains National Recreation Area (WMNRA), the Fortymile River subunit, and the Upper Black River subunit. Two of the subunits, the SNCA and WMNRA, require their own separate Record of Decision (ROD) due to their status as units of the BLM National Landscape Conservation System. Decisions on the Fortymile and Black River subunits will be combined into one ROD. The planning area also includes three national wild and scenic rivers: Beaver Creek, Birch Creek, and the Fortymile River. This planning activity encompasses approximately 8 million acres of public land. The plan will fulfill the needs and obligations set forth by the National Environmental Policy Act (NEPA), the Federal Land Policy and Management Act (FLPMA), and BLM management policies. The BLM will work collaboratively with interested parties to identify the management decisions best suited to local, regional, and national needs and concerns.

The purpose of the public scoping process is to determine relevant issues that will influence the scope of the environmental analysis and RMP alternatives. These issues also guide the planning process. You may submit comments on issues and planning criteria in writing to the BLM, at any public scoping meeting, or you may submit them to the BLM using one of the methods listed in the ADDRESSES section above. To be most helpful, you should submit formal scoping comments before July 1, 2008. The minutes and list of attendees for each scoping meeting will be available to the public and open for 30 days after the meeting to any participant who wishes to clarify the views he or she expressed. Individual respondents may request confidentiality. If you wish to withhold your name and/or address from public review or disclosure under the Freedom of Information Act, you must state this prominently at the beginning of your written comment. The BLM will honor such requests to the extent allowed by law. All submissions from organizations or businesses, and from individuals identifying themselves as representatives or officials of organizations or businesses, are available for public inspection in their entirety.

Preliminary issues and management concerns have been identified by BLM personnel, other agencies, and in meetings with individuals and user groups. They represent the BLM's knowledge to date regarding the existing issues and concerns with current land management.

The major issues or management concerns that will be addressed in this planning effort include management of: recreational use, off-highway vehicles and access, minerals and energy resources, land tenure and realty, wild and scenic rivers, wildlife and fisheries, and subsistence use.

After public comments are gathered about issues the plan should address, the issues will be placed into the following categories:

1. Issues to be resolved in the plan;

2. Issues to be resolved through policy or administrative action; or

3. Issues beyond the scope of this plan.

The BLM will provide an explanation in the plan as to why an issue was placed in categories two or three. In addition to these major issues, the plan will address a number of management questions and concerns and the public is encouraged to help identify these during the scoping phase.

Preliminary planning criteria are:

1. Public participation by interested groups and individuals will be encouraged throughout the RMP/EIS process.

2. Valid existing rights will be recognized and protected.

3. Subsistence uses will be considered and adverse impacts minimized in accordance with Section 810 of the Alaska National Interest Lands Conservation Act (ANILCA).

4. The BLM will work cooperatively with State and Federal agencies, Native corporations, Tribes, and Municipal governments. Agencies (including federally recognized tribal governments) with jurisdiction by law or special expertise will be consulted to determine if cooperating agency status is appropriate and desired.

5. Wildlife habitat management will be consistent with Alaska Department of Fish and Game (ADF&G) objectives and/or the Federal Subsistence Board requirements and mandates.

6. Resource management plans prepared by the BLM will conform to the Bureau's H-1601-1 Land Use Planning Handbook, Appendix C, Program-Specific and Resource-Specific Decision Guidance and supplemental program guidance manual for Areas of Critical Environmental Concern (ACECs) and Fluid Minerals.

7. The plan will be consistent with the standards and guidance set forth in the Federal Land Policy and Management Act (FLPMA), the National Environmental Policy Act (NEPA), the Council on Environmental Quality, the National Historic Preservation Act, the Wild and Scenic Rivers Act, the Migratory Bird Treaty Act, ANILCA, and other Federal laws, regulations, and policies as required.

8. The plan will be consistent with the BLM-Alaska Land Health Standards.

9. Off-highway vehicles designations for all public lands within the planning area will be completed according to the regulations found in 43 CFR 8342.

10. Areas proposed for Area of Critical Environmental Concern designation will meet the criteria found in 43 CFR 1610.7-2.

11. The plan will address all lands within the Eastern Interior planning area managed by the BLM (excluding military reservations).

12. Review and classification of waterways as eligible for inclusion in the National Wild and Scenic River System will follow the guidance found in the BLM Manual 8351, Wild and Scenic Rivers—Policy and Program Direction for Identification, Evaluation, and Management.

13. The Economic Profile System developed for the BLM by the Sonoran Institute, or equivalent, will be used to characterize baseline social and economic conditions.

14. The BLM will incorporate Environmental Justice (EJ) considerations in land use planning alternatives to adequately respond to EJ issues facing minority populations, low income communities, and Tribes living near public lands and using public land resources.

15. The analysis will employ guidance provided in the BLM Land Use Planning Handbook H-1601-1, Appendix D, Social Science Considerations in Land Use Planning Decisions.

16. Wilderness will not be considered in this plan unless Alaska's Governor or a member of the Congressional Delegation for Alaska recommends a particular area for study.

The BLM will use an interdisciplinary approach to develop the plan to consider the variety of resource issues and concerns identified. Specialists with expertise in the following disciplines will be involved in the planning process: outdoor recreation, minerals and geology, forestry, archeology, wildlife and fisheries, lands and realty, hydrology, soils, subsistence, sociology and economics, visual resource management, and vegetation.

Dated: February 22, 2008.
Thomas P. Lonnie,
State Director.

[FR Doc. E8-3924 Filed 2-28-08; 8:45 am]

BILLING CODE 4310-JA-P